DEPARTMENT OF COMMERCE

National Oceanic and Atmospheric Administration

[I.D. 060605A]

Marine Mammals; File No. 1071-1770

AGENCY: National Marine Fisheries Service (NMFS), National Oceanic and Atmospheric Administration (NOAA), Commerce.

ACTION: Issuance of permit.

SUMMARY: Notice is hereby given that the Dolphin Institute, 420 Ward Avenue, Suite 212, Honolulu, HI 96814 (Principal Investigator: Adam Pack, Ph.D.) has been issued a permit to conduct scientific research.

ADDRESSES: The permit and related documents are available for review upon written request or by appointment (see SUPPLEMENTARY INFORMATION).

FOR FURTHER INFORMATION CONTACT: Carrie Hubard or Ruth Johnson, (301) 713-2289.

SUPPLEMENTARY INFORMATION: On February 17, 2005, notice was published in the Federal Register (70 FR 8076) that a request for a scientific research permit to take marine mammals had been submitted by the above-named organization. The requested permit has been issued under the authority of the Marine Mammal Protection Act of 1972, as amended (16 U.S.C. 1361 et seq.) and the Regulations Governing the Taking and Importing of Marine Mammals (50 CFR part 216).

Permit No. 1071-1770-00 authorizes the Holder to study non-listed cetaceans in the Eastern, Western, and Central North Pacific Ocean. Studies include: (1) Photo-identification of individuals to determine individual life histories, social role, migration, habitat use, distribution, and reproductive status; (2) underwater videogrammetry to determine the sizes of animals; (3) underwater videography to document behaviors and aid in sex determination; and (4) passive acoustic recordings. Research will take place in waters off the main Hawaiian Islands (primary study area) and along the rim of the North Pacific from California northward to Southeast Alaska and then westward through the Gulf of Alaska, Aleutian Islands, and regions of the upper western Pacific. Research will also take place in Japanese waters off the Mariana, Bonin (Ogasawara), and Ryukyuan islands. The Holder also requested takes of large whale species, including humpback whales (Megaptera novaeangliae). However, a decision has not yet been made on the proposed research involving threatened and endangered species. The current permit only includes level B harassment of non-threatened and endangered species. The permit will be valid for five years.

In compliance with the National Environmental Policy Act of 1969 (42 U.S.C. 4321 et seq.), a final determination has been made that the activity proposed is categorically excluded from the requirement to prepare an environmental assessment or environmental impact statement.

Documents may be reviewed at any of the following locations:

Permits, Conservation and Education Division, Office of Protected Resources, NMFS, 1315 East-West Highway, Room 13705, Silver Spring, MD 20910; phone (301) 713-2289; fax (301) 427-2521;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562)980-4001; fax (562) 980-4018; or

Pacific Islands Region, NMFS, 1601 Kapiolani Blvd., Rm 1110, Honolulu, HI 96814-4700; phone (808) 973-2935; fax (808) 973-2941.

Dated: June 9, 2005.
Stephen L. Leathery,
Chief, Permits, Conservation and Education Division, Office of Protected Resources, National Marine Fisheries Service.

[FR Doc. 05-11836 Filed 6-15-05; 8:45 am]

BILLING CODE 3510-22-S